DEPARTMENT OF TRANSPORTATION

Federal Aviation Administration

RTCA Government/Industry Air Traffic Management Advisory Committee

AGENCY: Federal Aviation Administration (FAA), DOT.

ACTION: Notice of RTCA Government/Industry Air Traffic Management Advisory Committee.

SUMMARY: The FAA is issuing this notice to advise the public of a meeting of RTCA Government/Industry Air Traffic Management Advisory Committee.

DATES: The meeting will be held October 29, 2009, from 1 p.m. to 4 p.m.

ADDRESSES: The meeting will be held at FAA Headquarters, 800 Independence Avenue, SW., Bessie Coleman Conference Center (2nd Floor), Washington, DC, 20591.

FOR FURTHER INFORMATION CONTACT: RTCA Secretariat, 1828 L Street, NW., Suite 805, Washington, DC, 20036; telephone (202) 833-9339; fax (202) 833-9434; Web site http://www.rtca.org. METRO: L'Enfant Plaza Station (Use 7th & Maryland Exit).

SUPPLEMENTARY INFORMATION: Pursuant to section 10(a)(2) of the Federal Advisory Committee Act (Pub. L. 92-463, 5 U.S.C., Appendix 2), notice is hereby given for the Air Traffic Management Advisory Committee meeting. The agenda will include:

• Opening Plenary (Welcome and Introductions).

• ATMAC ADS-B WG Report, Discussion, and Tasking.

• RTCA Task Force on NextGen Mid-Term Implementation (NextGen TF): Recommendations and Post TF Collaboration.

• Trajectory Based Operations: Discussion and Potential Tasking.

• ATMAC R&P WG Report, Discussion, and Tasking.

• ATMAC Member Discussion and Recommendations.

• Proposed 2010 Meeting Schedule.

• Closing Plenary (Other Business, Member Discussion, Adjourn).

Attendance is open to the interested public but limited to space availability. With the approval of the chairmen, members of the public may present oral statements at the meeting. Persons wishing to present statements or obtain information should contact the person listed in the FOR FUTHER INFORMATION CONTACT section. Members of the public may present a written statement to the committee at any time.

Issued in Washington, DC, on September 22, 2009.
Francisco Estrada C.,
RTCA Advisory Committee.

[FR Doc. E9-23275 Filed 9-25-09; 8:45 am]

BILLING CODE 4910-13-P